FEDERAL COMMUNICATIONS COMMISSION

[DA 12-1620]

Notice of Suspension and Commencement of Proposed Debarment Proceedings; Schools and Libraries Universal Service Support Mechanism

AGENCY: Federal Communications Commission.

ACTION: Notice.

SUMMARY: The Enforcement Bureau (the “Bureau”) gives notice of Ms. Denisa Babcock's suspension from the schools and libraries universal service support mechanism (or “E-Rate Program”). Additionally, the Bureau gives notice that debarment proceedings are commencing against her. Ms. Babcock, or any person who has an existing contract with or intends to contract with her to provide or receive services in matters arising out of activities associated with or related to the schools and libraries support, may respond by filing an opposition request, supported by documentation to Joy Ragsdale, Federal Communications Commission, Enforcement Bureau, Investigations and Hearings Division, Room 4-C330, 445 12th Street SW., Washington, DC 20554.

DATES: Opposition requests must be received by 30 days from the receipt of the suspension letter or December 10, 2012, whichever comes first. The Bureau will decide any opposition request for reversal or modification of suspension or debarment within 90 days of its receipt of such requests.

ADDRESSES: Federal Communications Commission, Enforcement Bureau, Investigations and Hearings Division, Room 4-C330, 445 12th Street SW., Washington, DC 20554.

FOR FURTHER INFORMATION CONTACT: Joy Ragsdale, Federal Communications Commission, Enforcement Bureau, Investigations and Hearings Division, Room 4-C330, 445 12th Street SW., Washington, DC 20554. Joy Ragsdale may be contacted by phone at (202) 418-1697 or email at Joy.Ragsdale@fcc.gov. If Ms. Ragsdale is unavailable, you may contact Ms. Theresa Cavanaugh, Chief, Investigations and Hearings Division, by telephone at (202) 418-1420 and by email at Terry.Cavanaugh@fcc.gov.

SUPPLEMENTARY INFORMATION: The Bureau has suspension and debarment authority pursuant to 47 CFR 54.8 and 47 CFR 0.111(a)(14). Suspension will help to ensure that the party to be suspended cannot continue to benefit from the schools and libraries mechanism pending resolution of the debarment process. Attached is the suspension letter, DA 12-1620, which was mailed to Ms. Babcock and released on October 10, 2012. The complete text of the notice of suspension and initiation of debarment proceedings is available for public inspection and copying during regular business hours at the FCC Reference Information Center, Portal II, 445 12th Street SW., Room CY-A257, Washington, DC 20554, In addition, the complete text is available on the FCC's Web site at http://www.fcc.gov. The text may also be purchased from the Commission's duplicating inspection and copying during regular business hours at the contractor, Best Copy and Printing, Inc., Portal II, 445 12th Street SW., Room CY-B420, Washington, DC 20554, telephone (202) 488-5300 or (800) 378-3160, facsimile (202) 488-5563, or via email http://www.bcpiweb.com.

Federal Communications Commission.
Dated: October 10, 2012.
Theresa Z. Cavanaugh,
Chief, Investigations and Hearings Division, Enforcement Bureau.

DA 12-1620

SENT VIA CERTIFIED MAIL, RETURN RECEIPT REQUESTED AND EMAIL

Ms. Denisa Babcock, c/o Leon Fred Spies, Mellon & Spies, 312 E. College Street, Suite 216, Iowa City, IA 52240

Re: Notice of Suspension and Initiation of Debarment Proceedings FCC File No. EB-12-IH-1396

Dear Ms. Babcock: The Federal Communications Commission (Commission) has received notice of your conviction, under 18 U.S.C. 666(a)(1)(A) and (b), for theft of, among other amounts, funds associated with the federal schools and libraries universal service support mechanism (E-Rate program).¹ Consequently, pursuant to 47 CFR 54.8, this letter constitutes official notice of your suspension from the E-Rate program. In addition, the Enforcement Bureau (Bureau) hereby notifies you that the Bureau will commence E-Rate program debarment proceedings against you.²

¹ Any further reference in this letter to “your conviction” refers to your guilty plea in United States v. Babcock, Criminal Docket No. 3:10-cr-00074-RP-TJS-1, Plea Agreement (S.D. Iowa, May 11, 2011) (Plea Agreement).

² See 47 CFR 0.111 (delegating to the Bureau authority to resolve universal service suspension and debarment proceedings). The Commission adopted debarment rules for the E-Rate program in 2003. See Schools and Libraries Universal Service Support Mechanism, Second Report and Order and Further Notice of Proposed Rulemaking, 18 FCC Rcd 9202 (2003) (Second Report and Order) (adopting § 54.521 to suspend and debar parties from the E-Rate program). In 2007, the Commission extended the debarment rules to apply to all federal universal service support mechanisms. Comprehensive Review of the Universal Service Fund Management, Administration, and Oversight; Federal-State Joint Board on Universal Service; Schools and Libraries Universal Service Support Mechanism; Rural Health Care Support Mechanism; Lifeline and Link Up; Changes to the Board of Directors for the National Exchange Carrier Association, Inc., Report and Order, 22 FCC Rcd 16372, 16410-12 (2007) (Program Management Order) (renumbering § 54.521 of the universal service debarment rules as § 54.8 and amending subsections (a)(1), (a)(5), (c), (d), (e)(2)(i), (e)(3), (e)(4), and (g)).

I. Notice of Suspension

The Commission has established procedures to prevent persons who have “defrauded the government or engaged in similar acts through activities associated with or related to the [E-Rate program]” from receiving the benefits associated with that program.³ The Commission's rules are designed to ensure that all E-Rate funds are used for their intended purpose.⁴

³ Second Report and Order, 18 FCC Rcd at 9225, para. 66; Program Management Order, 22 FCC Rcd at 16387, para. 32. The Commission's debarment rules define a “person” as “[a]ny individual, group of individuals, corporation, partnership, association, unit of government or legal entity, however organized.” 47 CFR 54.8(a)(6).

⁴ NEC-Business Network Solutions, Inc., Notice of Debarment and Order Denying Waiver Petition, 21 FCC Rcd 7491, 7493, para. 7 (2006).

On May 11, 2011, you pled guilty to converting more than $1,000,000 belonging to various school districts for your personal use from November 2005 through December 2009.⁵ That amount included approximately $49,000 in E-Rate checks that had been payable to school districts you represented through your E-Rate consulting company, Camanche Consulting Services (CCS).⁶ According to your Plea Agreement, you knowingly deposited E-Rate checks payable to these school districts into your personal bank accounts without the authority to do so.⁷ Along with the other funds stolen from the various school districts, you used these stolen E-Rate funds to help pay off your home mortgage, fund retirement plans, and purchase vehicles, real property, a boat, travel, and personal items.⁸

⁵ Plea Agreement at 1, 17-18; see also United States Attorney's Office, Southern District of Iowa, News, Former Clinton Community School District Employee Pleads Guilty to Theft of Federal Funds, May 11, 2011, at http://www.justice.gov/usao/ias/news/2011/Babcock%20-%20plea%20-%20media%20release%20-%205-10-11.pdf (Press Release).

⁶ Plea Agreement at 17.

⁷ Id.

⁸ Id. at 18.

On October 14, 2011, the United States District Court for the Southern District of Iowa sentenced you to serve 64 months in prison followed by a three-year period of supervised release.⁹ In addition, the court ordered you to pay $1,330,215.96 in restitution and a $100 special assessment.¹⁰

⁹ United States v. Babcock, Criminal Docket No. 3:10-cr-00074-RP-TJS-1, Amended Judgment at 2 (S.D. Iowa, entered Jan. 23, 2012) (Amended Judgment).

¹⁰ Amended Judgment at 4-5. This restitution order includes: $8,061.77 payable to Bement Community School District Five; $2,231.28 payable to the Chester Area School District; $21,789.40 payable to the Lena-Winslow School District; $17,933.80 payable to North Boone School District 200; $1,852.03 payable to Oldham Public Library; and $4,270.64 payable to West Carroll Community School District No. 314. Id. at 4. In addition, you were ordered to forfeit, among other items, E-Rate checks that FBI agents had seized from your residence. Plea Agreement at 6-7.

Pursuant to § 54.8(b) of the Commission's rules,¹¹ upon your conviction for theft of E-Rate funds, the Bureau is required to suspend you from participating in any activities associated with or related to the E-Rate program, including the receipt of funds or discounted services through the E-Rate program, or consulting with, assisting, or advising applicants or service providers regarding the E-Rate program.¹² Your suspension becomes effective upon either your receipt of this letter or its publication in the Federal Register, whichever comes first.¹³

¹¹ 47 CFR 54.8(a)(4); see Second Report and Order, 18 FCC Rcd at 9225-27, paras. 67-74.

¹² 47 CFR 54.8(a)(1), (d).

¹³ Second Report and Order, 18 FCC Rcd at 9226, para. 69; 47 CFR 54.8(e)(1).

In accordance with the Commission's suspension and debarment rules, you may contest this suspension or the scope of this suspension by filing arguments, with any relevant documents, within thirty (30) calendar days of your receipt of this letter or [INSERT DATE 30 DAYS AFTER DATE OF PUBLICATION IN THE FEDERAL REGISTER], whichever comes first.¹⁴ Such requests, however, will not ordinarily be granted.¹⁵ The Bureau may reverse or limit the scope of a suspension only upon a finding of extraordinary circumstances.¹⁶ The Bureau will decide any request to reverse or modify a suspension within ninety (90) calendar days of its receipt of such request.¹⁷

¹⁴ 47 CFR 54.8(e)(4).

¹⁵ Id.

¹⁶ 47 CFR 54.8(f).

¹⁷ Second Report and Order, 18 FCC Rcd at 9226, para. 70; 47 CFR 54.8(e)(5), (f).

II. Initiation of Debarment Proceedings

In addition to requiring your immediate suspension from the E-Rate program, your conviction is cause for debarment as defined in § 54.8(c) of the Commission's rules.¹⁸ Therefore, pursuant to § 54.8(b) of the Commission's rules, your conviction requires the Bureau to commence debarment proceedings against you.¹⁹

¹⁸ “Causes for suspension and debarment are conviction of or civil judgment for attempt or commission of criminal fraud, theft, embezzlement, forgery, bribery, falsification or destruction of records, making false statements, receiving stolen property, making false claims, obstruction of justice and other fraud or criminal offense arising out of activities associated with or related to the schools and libraries support mechanism, the high-cost support mechanism, the rural healthcare support mechanism, and the low-income support mechanism.” 47 CFR. 54.8(c). Associated activities “include the receipt of funds or discounted services through [the federal universal service] support mechanisms, or consulting with, assisting, or advising applicants or service providers regarding [the federal universal service] support mechanisms.” Id. 54.8(a)(1).

¹⁹ Id. 54.8(b).

As with the suspension process, you may contest the proposed debarment or the scope of the proposed debarment by filing arguments and any relevant documentation within thirty (30) calendar days of receipt of this letter or its publication in the Federal Register, whichever comes first.²⁰ The Bureau, in the absence of extraordinary circumstances, will notify you of its decision to debar within ninety (90) calendar days of receiving any information you may have filed.²¹ If the Bureau decides to debar you, its decision will become effective upon either your receipt of a debarment notice or publication of the decision in the Federal Register, whichever comes first.²²

²⁰ Second Report and Order, 18 FCC Rcd at 9226, para. 70; 47 CFR § 54.8(e)(3).

²¹ Second Report and Order, 18 FCC Rcd at 9226, para. 70; 47 CFR. § 54.8(e)(5).

²² 47 CFR 54.8(e)(5). The Commission may reverse a debarment, or may limit the scope or period of debarment, upon a finding of extraordinary circumstances, following the filing of a petition by you or an interested party or upon motion by the Commission. Id. 54.8(f).

If and when your debarment becomes effective, you will be prohibited from participating in activities associated with or related to the E-Rate program for three years from the date of debarment.²³ The Bureau may set a longer debarment period or extend an existing debarment period if necessary to protect the public interest.²⁴

²³ Second Report and Order, 18 FCC Rcd at 9225, para. 67; 47 CFR 54.8(d), (g).

²⁴ 47 CFR 54.8(g).

Please direct any response, if sent by messenger or hand delivery, to Marlene H. Dortch, Secretary, Federal Communications Commission, 445 12th Street SW., Room TW-A325, Washington, DC 20554 and to the attention of Joy M. Ragsdale, Attorney Advisor, Investigations and Hearings Division, Enforcement Bureau, Room 4-C330, Federal Communications Commission, 445 12th Street SW., Washington, DC 20554 with a copy to Theresa Z. Cavanaugh, Division Chief, Investigations and Hearings Division, Enforcement Bureau, Room 4-C330, Federal Communications Commission, 445 12th Street SW., Washington, DC 20554. All messenger or hand delivery filings must be submitted without envelopes.²⁵ If sent by commercial overnight mail (other than U.S. Postal Service (USPS) Express Mail and Priority Mail), the response must be sent to the Federal Communications Commission, 9300 East Hampton Drive, Capitol Heights, Maryland 20743. If sent by USPS First Class, Express Mail, or Priority Mail, the response should be addressed to Joy Ragsdale, Attorney Advisor, Investigations and Hearings Division, Enforcement Bureau, Federal Communications Commission, 445 12th Street SW., Room 4-C330, Washington, DC 20554, with a copy to Theresa Z. Cavanaugh, Chief, Investigations and Hearings Division, Enforcement Bureau, Federal Communications Commission, 445 12th Street SW., Room 4-C330, Washington, DC 20554. You shall also transmit a copy of your response via email to Joy M. Ragsdale, Joy.Ragsdale@fcc.gov and to Theresa Z. Cavanaugh, Terry.Cavanaugh@fcc.gov.

²⁵ See FCC Public Notice, DA 09-2529 for further filing instructions (rel. Dec. 3, 2009).

If you have any questions, please contact Ms. Ragsdale via U.S. postal mail, email, or by telephone at (202) 418-1697. You may contact me at (202) 418-1553 or at the email address noted above if Ms. Ragsdale is unavailable.

Sincerely yours,

Theresa Z. Cavanaugh,

Chief, Investigations and Hearings Division, Enforcement Bureau

cc: Johnnay Schrieber, Universal Service Administrative Company (via email); Rashann Duvall, Universal Service Administrative Company (via email); Maureen McGuire, United States Attorney's Office, Southern District of Iowa (via email); Richard Westphal, United States Attorney's Office, Southern District of Iowa (via email)

[FR Doc. 2012-27348 Filed 11-8-12; 8:45 am]

BILLING CODE 6712-01-P